DEPARTMENT OF TRANSPORTATION

Federal Aviation Administration

14 CFR Part 39

[Docket No. FAA-2024-2022; Project Identifier MCAI-2024-00189-T; Amendment 39-22993; AD 2025-06-05]

RIN 2120-AA64

Airworthiness Directives; Dassault Aviation Airplanes

AGENCY: Federal Aviation Administration (FAA), DOT.

ACTION: Final rule.

SUMMARY: The FAA is adopting a new airworthiness directive (AD) for certain Dassault Aviation Model FALCON 7X, FALCON 900EX, and FALCON 2000EX airplanes. This AD was prompted by reported occurrences of swelling of the lithium-polymer internal and external batteries of certain electronic display units (EDUs). This AD requires modifying certain EDUs and prohibits the installation of affected parts, as specified in a European Union Aviation Safety Agency (EASA) AD, which is proposed for incorporation by reference (IBR). The FAA is issuing this AD to address the unsafe condition on these products.

DATES: This AD is effective May 2, 2025.

The Director of the Federal Register approved the incorporation by reference of a certain publication listed in this AD as of May 2, 2025.

ADDRESSES:

AD Docket: You may examine the AD docket at regulations.gov under Docket No. FAA-2024-2022; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2022.

FOR FURTHER INFORMATION CONTACT: Tom Rodriguez, Aviation Safety Engineer, FAA, 1600 Stewart Avenue, Suite 410, Westbury, NY 11590; telephone 206-231-3226; email: tom.rodriguez@faa.gov.

SUPPLEMENTARY INFORMATION:

Background

The FAA issued a notice of proposed rulemaking (NPRM) to amend 14 CFR part 39 by adding an AD that would apply to certain Dassault Aviation Model FALCON 7X, FALCON 900EX, and FALCON 2000EX airplanes. The NPRM published in the Federal Register on August 21, 2024 (89 FR 67572). The NPRM was prompted by AD 2024-0072, dated March 15, 2024 (EASA AD 2024-0072) (also referred to as the MCAI), issued by EASA, which is the Technical Agent for the Member States of the European Union. The MCAI states that occurrences were reported of swelling of the lithium polymer internal and external batteries of CMA-1310 EDUs having part number (P/N) 100-604073-000, with a mod-status between 2 and 6 (inclusive). The swelling occurs due to a high inrush charge and discharge current stress condition applied on a deeply discharged lithium-polymer battery.

In the NPRM, the FAA proposed to require modifying certain EDUs and to prohibit the installation of affected parts, as specified in EASA AD 2024-0072. The FAA is issuing this AD to prevent internal and external battery swelling. The unsafe condition, if not addressed, could lead to the thermal runaway of a battery, possibly resulting in the release of heat, smoke, fire, and explosion in the cockpit.

You may examine the MCAI in the AD docket at regulations.gov under Docket No. FAA-2024-2022.

Discussion of Final Airworthiness Directive

Comments

The FAA received comments from an individual who supported the NPRM without change. The FAA also received comments from an individual who supported the NPRM and had additional comments.

Request To Provide Phased Compliance Time

An individual requested that the FAA provide a phased compliance time to help operators, especially in remote areas, deal with logistical problems and get on board with the AD. The individual added that this would allow time for parts to be available, help to minimize operational disruption, and maintain safety.

The FAA disagrees with the commenter's request. In developing an appropriate compliance time for this action, the FAA considered the recommendations of the manufacturer, the urgency associated with the subject unsafe condition, the availability of required parts, and the practical aspect of accomplishing the required modification within a period of time that corresponds to the normal scheduled maintenance for most affected operators. According to the manufacturer, an ample number of required parts will be available to modify the U.S. fleet within the proposed compliance time. However, under the provisions of paragraph (i)(1) of this AD, the FAA will consider requests for approval of an extension of the compliance time if sufficient data are submitted to substantiate that the new compliance time would provide an acceptable level of safety. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0072 specifies procedures for modifying CMA-1310 EDUs having P/N 100-604073-000 and with current mod-status between 2 and 6 (inclusive) to a mod-status 7 or higher, including a visual inspection of the external removable battery for defects (swelling) and replacement of any defective external removable battery with a new external removable battery, and updating the BIOS/EC firmware. EASA AD 2024-0072 prohibits the installation of CMA-1310 EDU having P/N 100-604073-000 and with a mod status between 2 and 6 (inclusive) on any airplane.

This material is reasonably available because the interested parties have access to it through their normal course of business or by the means identified in the ADDRESSES section.

Costs of Compliance

The FAA estimates that this AD affects 719 airplanes of U.S. registry. The FAA estimates the following costs to comply with this AD:

Estimated Costs for Required Actions
Labor cost | Parts cost | Cost per product | Cost on U.S. operators
Up to 4 work-hours × $85 per hour = $340 | $20,840 | Up to $21,180 | Up to $15,228,420.

The FAA estimates the following costs to do any necessary on-condition actions that would be required based on the results of any required actions. The FAA has no way of determining the number of aircraft that might need these on-condition actions:

Estimated Costs of On-Condition Actions
Actions | Labor cost | Parts cost | Cost per product
Replace one external battery | 1 work-hour × $85 per hour = $85 | $430 | $515

The FAA has included all known costs in its cost estimate. According to the manufacturer, however, some or all the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-06-05 Dassault Aviation: Amendment 39-22993; Docket No. FAA-2024-2022; Project Identifier MCAI-2024-00189-T.

(a) Effective Date

This airworthiness directive (AD) is effective May 2, 2025.

(b) Affected ADs

None.

(c) Applicability

This AD applies to Dassault Aviation Model FALCON 7X, FALCON 900EX, and FALCON 2000EX airplanes, certificated in any category, as identified in European Union Aviation Safety Agency (EASA) AD 2024-0072, dated March 15, 2024 (EASA AD 2024-0072).

Note 1 to paragraph (c): Model FALCON 7X airplanes with modification M1000 incorporated are commonly referred to as “Model FALCON 8X” airplanes as a marketing designation.

Note 2 to paragraph (c): Model FALCON 900EX airplanes with modification M3083 incorporated are commonly referred to as “Model FALCON 900EX Easy, FALCON 900LX and FALCON 900DX” airplanes as a marketing designation.

Note 3 to paragraph (c): Model FALCON 2000EX airplanes with modification M1691 incorporated are commonly referred to as “Model FALCON 2000EX Easy, FALCON 2000LX, FALCON 2000LXS, FALCON 2000S, and FALCON 2000DX” airplanes as a marketing designation.

(d) Subject

Air Transport Association (ATA) of America Code 46, Information systems.

(e) Unsafe Condition

This AD was prompted by reported occurrences of swelling of the lithium-polymer internal and external batteries of CMA-1310 electronic display units (EDUs) having part number (P/N) 100-604073-000, with a mod-status between 2 and 6 (inclusive). The FAA is proposing this AD to prevent internal and external battery swelling. The unsafe condition, if not addressed, could lead to the thermal runaway of a battery, possibly resulting in in the release of heat, smoke, fire, and explosion in the cockpit.

(f) Compliance

Comply with this AD within the compliance times specified, unless already done.

(g) Requirements

Except as specified in paragraph (h) of this AD: Comply with all required actions and compliance times specified in, and in accordance with, EASA AD 2024-0072.

(h) Exceptions to EASA AD 2024-0072

(1) Where EASA AD 2024-0072 refers to its effective date, this AD requires using the effective date of this AD.

(2) Paragraph (1) of EASA AD 2024-0072 specifies to “replace each affected part with a serviceable part. This can be accomplished in accordance with the instructions of the SB.” This AD, however, requires replacing that text with “replace each affected part with a serviceable part in accordance with the Accomplishment Instructions of the SB.”

(3) This AD does not adopt the “Remarks” section of EASA AD 2024-0072.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Dassault Aviation's EASA Design Organization Approval (DOA). If approved by the DOA, the approval must include the DOA-authorized signature.

(j) Additional Information

For more information about this AD, contact Tom Rodriguez, Aviation Safety Engineer, FAA, 1600 Stewart Avenue, Suite 410, Westbury, NY 11590; telephone 206-231-3226; email: tom.rodriguez@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2024-0072, dated March 15, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on March 12, 2025.
Steven W. Thompson,
Acting Deputy Director, Compliance & Airworthiness Division, Aircraft Certification Service.

[FR Doc. 2025-05300 Filed 3-27-25; 8:45 am]

BILLING CODE 4910-13-P